DEPARTMENT OF HEALTH AND HUMAN SERVICES

National Institutes of Health

National Institute of Arthritis and Musculoskeletal and Skin Diseases; Amended Notice of Meeting

Notice is hereby given of a change in the meeting of the National Institute of Arthritis and Musculoskeletal and Skin Diseases Special Emphasis Panel, October 22, 2013, 10:00 a.m. to October 22, 2013, 06:00 p.m., National Institutes of Health, 6701 Rockledge Drive, Bethesda, MD, 20892 which was published in the Federal Register on September 30, 2013, 78 FR 59945.

This meeting, originally scheduled on October 22, 2013, will be held on November 19, 2013 from 10:00 a.m. to 6:00 p.m. The meeting is closed to the public.

Dated: October 22, 2013.
Carolyn Baum,
Program Analyst, Office of Federal Advisory Committee Policy.

[FR Doc. 2013-25252 Filed 10-25-13; 8:45 am]

BILLING CODE 4140-01-P